DEPARTMENT OF VETERANS AFFAIRS

[OMB Control No. 2900-0342]

Agency Information Collection Activity: Application and Training Agreement for Apprenticeship and On-the-Job Training Programs

AGENCY: Veterans Benefits Administration, Department of Veterans Affairs.

ACTION: Notice.

SUMMARY: The Veterans Benefits Administration (VBA), Department of Veterans Affairs (VBA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before August 18, 2020.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0342” in any correspondence. During the comment period, comments may be viewed online through FDMS.

FOR FURTHER INFORMATION CONTACT: Danny S. Green at (202) 421-1354.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: 10 U.S.C. 16131(d), 16136, and section 510 of chapter 31. 38 U.S.C. 3034(a)(1), 3241(a)(1), 3323(a), 3534(a), 3671, 3672, 3687(a); 38 CFR 21.4150(c), 21.4261(b) and (c), 21.5250(a), 21.7220(a), and 21.7720.

Title: Application and Training Agreement For Apprenticeship and On-the-Job Training Programs.

OMB Control Number: 2900-0342.

Type of Review: Revision of a currently approved collection.

Abstract: Each on-the-job trainee must receive a training agreement in accordance with statutory and regulatory requirements. VA form 22-8864 (or the training agreement provided by the SAA) is used to meet these requirements. VA Form 22-8865 (or the equivalent tool provided by the SAAs) is used to ensure that training programs meet the statutory and regulatory requirements for approval.

Affected Public: Individuals and households.

Estimated Annual Burden: 11,744 hours.

Estimated Average Burden per Respondent: 120 minutes.

Frequency of Response: Once on occasion.

Estimated Number of Respondents: 5,872.

By direction of the Secretary.
Danny S. Green,
VA PRA Clearance Officer, Office of Quality, Performance and Risk, Department of Veterans Affairs.

[FR Doc. 2020-13206 Filed 6-18-20; 8:45 am]

BILLING CODE 8320-01-P